DEPARTMENT OF ENERGY

Federal Energy Regulatory Commission

18 CFR Part 35

[Docket No. RM02-12-002]

Standardization of Small Generator Interconnection Agreements and Procedures

AGENCY: Federal Energy Regulatory Commission, DOE.

ACTION: Order on clarification; correction.

SUMMARY: This document corrects an error in an Order on Clarification that the Federal Energy Regulatory Commission published in the Federal Register on July 27, 2006. The Order on Clarification erroneously omitted text from two sections within the appendices of the document.

DATES: Effective Date: August 28, 2006.

FOR FURTHER INFORMATION CONTACT: Michael G. Henry (Legal Information), Office of the General Counsel, Federal Energy Regulatory Commission at (202) 502-8532.

SUPPLEMENTARY INFORMATION: In FR Document E6-11989, published July 27, 2006 (71 FR 42587) make the following correction to appendices 2 and 3 of the document:

Appendix 2: Revised System Impact Study Agreement and Appendix 3: Revised Facilities Study Agreement [Corrected]

On page 42591, column 2, section “21.0 Reservation of Rights and on page 42592, column 3, section “19.0 Reservation of Rights, the language is corrected to read as follows for both of these sections:

“Reservation of Rights: The Transmission Provider shall have the right to make a unilateral filing with FERC to modify this Agreement with respect to any rates, terms and conditions, charges, classifications of service, rule or regulation under section 205 of any other applicable provision of the Federal Energy Power Act and FERC rules and regulations thereunder, and the Interconnection Customer shall have the right to make a unilateral filing with FERC to modify this Agreement under any applicable provision of the Federal Power Act and FERC's rules and regulations; provided that each party shall have the right to protest any such filing by the other Party and to participate fully in any proceeding before FERC in which such modifications may be considered. Nothing in this Agreement shall limit the rights of the parties or of FERC under sections 205 or 206 of the Federal Power Act and FERC's rules and regulations, except to the extent that the parties otherwise agree as provided herein.”

Magalie R. Salas,
Secretary.

[FR Doc. E6-15126 Filed 9-12-06; 8:45 am]

BILLING CODE 6717-01-P